DEPARTMENT OF COMMERCE

National Oceanic and Atmospheric Administration

[I.D. 020105E]

Proposed Information Collection; Comment Request; Alaska Saltwater Sport Fishing Economic Survey

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before April 5, 2005.

ADDRESSES: Direct all written comments to Diana Hynek, Departmental Paperwork Clearance Officer, Department of Commerce, Room 6625, 14th and Constitution Avenue, NW, Washington, DC 20230 (or via the Internet at dHynek@doc.gov).

FOR FURTHER INFORMATION CONTACT: Requests for additional information should be directed to Dr. Dan Lew, National Marine Fisheries Service, Alaska Fisheries Science Center, 7600 Sand Point Way NE, Seattle, WA 98115; telephone: (206) 526-4252; fax: (206) 526-6723; e-mail: dan.lew@noaa.gov.

SUPPLEMENTARY INFORMATION:

I. Abstract

The National Marine Fisheries Service (NMFS) plans to conduct a survey to collect data for conducting economic analyses of marine sport fishing in Alaska. This survey is necessary to understand the factors that affect the economic value of marine recreational fishing trips and improve estimates of fishing trip value.

The Federal Government is responsible for the management of the Pacific halibut sport fishery off Alaska, while the State of Alaska manages the salmon sport fisheries (Chinook, Coho, Sockeye, Chum, and Pink), as well as several other saltwater sport fisheries. The survey's scope covers marine sport fishing for Pacific halibut, salmon, and other popular marine sport species in Alaska (e.g., lingcod and rockfish). The data collected from the survey will be used to estimate the value of marine fishing to anglers and to analyze how the type of fish caught, catch rates, and fishery regulations affect fishing values and anglers' decisions to participate in Alaska marine fishing activities.

The economic information provided from the survey will help inform fishery managers about the economic values of Alaska marine sport fisheries and the changes to participation in these fisheries with proposed regulations.

II. Method of Collection

The data will be collected through a mail survey. A random sample of sport anglers who have fished in Alaska will receive an initial questionnaire. In subsequent weeks, a reminder postcard and a second questionnaire will be mailed to respondents who have not completed and returned the survey. Those not responding to the second full mailing will be contacted by telephone and asked to complete and return the questionnaire.

III. Data

OMB Number: None.

Form Number: None.

Type of Review: Regular submission

Affected Public: Individuals or households.

Estimated Number of Respondents: 4,000.

Estimated Time Per Response: 30 minutes.

Estimated Total Annual Burden Hours: 2,000.

Estimated Total Annual Cost to Public: $0.

IV. Request for Comments

Comments are invited on: (a) whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: January 31, 2005.
Gwellnar Banks,
Management Analyst, Office of the Chief Information Officer.

[FR Doc. 05-2192 Filed 2-3-05; 8:45 am]

BILLING CODE 3510-22-S